FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue NW, Washington, DC 20551-0001, not later than January 8, 2020.

A. Federal Reserve Bank of Kansas City (Dennis Denney, Assistant Vice President) 1 Memorial Drive, Kansas City, Missouri 64198-0001:

1. Susan Chapman Plumb, Tahlequah, Oklahoma; to retain voting shares of Grandview Bankshares, Inc., and thereby indirectly retain voting shares of Cherokee County Bancshares, Inc. and Bank of Cherokee County, all of Hulbert, Oklahoma.

Board of Governors of the Federal Reserve System, December 20, 2019.
Michele Taylor Fennell,
Assistant Secretary of the Board.

[FR Doc. 2019-27999 Filed 12-27-19; 8:45 am]

BILLING CODE P